DEPARTMENT OF EDUCATION

Arbitration Panel Decisions Under the Randolph-Sheppard Act

AGENCY: Office of Special Education and Rehabilitative Services, Department of Education.

ACTION: Notice.

SUMMARY: This notice lists arbitration panel decisions under the Randolph-Sheppard Act issued in April, May, and June 2018. This notice also lists any older decisions that the Department has made publicly available in accessible electronic format during that period. All decisions are available on the Department's website and by request.

FOR FURTHER INFORMATION CONTACT: Donald Brinson, U.S. Department of Education, 400 Maryland Avenue SW, Room 5065D, Potomac Center Plaza, Washington, DC 20202-2800. Telephone: (202) 245-7310. Email: donald.brinson@ed.gov.

If you use a telecommunications device for the deaf (TDD) or a text telephone (TTY), call the Federal Relay Service, toll-free, at 1-800-877-8339.

SUPPLEMENTARY INFORMATION: For the purpose of providing individuals who are blind with remunerative employment, enlarging their economic opportunities, and stimulating greater efforts to make themselves self-supporting, the Randolph-Sheppard Act, 20 U.S.C. 107 et seq. (Act), authorizes individuals who are blind to operate vending facilities on Federal property and provides them with a priority for doing so. The vending facilities include, among other things, cafeterias, snack bars, and automatic vending machines. The Department administers the Act and designates an agency in each State—the State Licensing Agency (SLA)—to license individuals who are blind to operate vending facilities on Federal and other property in the State.

The Act requires arbitration of disputes between SLAs and vendors who are blind and between SLAs and Federal agencies before three-person panels convened by the Department whose decisions constitute final agency action. 20 U.S.C. 107d-1. The Act also makes these decisions matters of public record and requires their publication in the Federal Register. 20 U.S.C. 107d-2(c).

On September 5, 2017, the Department announced that it would publish quarterly lists of Randolph-Sheppard arbitration panel decisions in the Federal Register and that the full text of the decisions listed would be available on the Department's website or by request (see 82 FR 41941). In that notice, we also announced that we would add older, archived decisions as they become available.

In the second quarter of 2018, a Randolph-Sheppard arbitration panel issued the following decision.

Case name | Docket No. | Date | State
New Jersey Commission for the Blind and Visually Impaired v. Department of the Air Force, Joint Base McGuire-Dix-Lakehurst | R-S/15-19 | 4/24/2018 | New Jersey.

This decision and other decisions that we have already posted are searchable by key terms, are accessible under Section 508 of the Rehabilitation Act, and are available in Portable Document Format (PDF) at www.ed.gov/programs/rsarsp/arbitration-decisions.html or by request to the person listed under FOR FURTHER INFORMATION CONTACT.

At the same site, we have posted the following older, archived decision from 2013.

Case name | Docket No. | Date | State
State of California, Department of Rehabilitation v. United States General Services Administration | R-S/10-07 | 5/15/13 | California.

Accessible Format: Individuals with disabilities can obtain this document in an accessible format (e.g., Braille, large print, audiotape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or PDF. To use PDF you must have Adobe Acrobat Reader, which is available free at the site.

You may also access documents of the Department published in the Federal Register by using the article search feature at www.federalregister.gov. Specifically, through the advanced search feature at this site, you can limit your search to documents published by the Department.

Dated: February 11, 2019.
Johnny W. Collett,
Assistant Secretary for Special Education and Rehabilitative Services.

[FR Doc. 2019-02386 Filed 2-14-19; 8:45 am]

BILLING CODE 4000-01-P